DEPARTMENT OF JUSTICE

Notice of Lodging of Proposed Consent Decree Under the Comprehensive Environmental Response, Compensation, and Liability Act

On November 6, 2013, the United States Department of Justice lodged a proposed Operable Unit Three Consent Decree (“Decree”) with the United States District Court for the District of New Jersey in the lawsuit entitled United States v. Air Products and Chemicals, Inc., et al., Civil Action No. 13-6695 (CCC) (MF).

The proposed consent decree provides for the performance of a remedial action, pursuant to the Comprehensive Environmental Response, Compensation and Liability Act, 42 U.S.C. § 9601, et seq., selected by the United States Environmental Protection Agency for Operable Unit Three (“OU 3”) at the Scientific Chemical Processing (“SCP”) Superfund Site in Carlstadt, Bergen County, New Jersey.

The OU 3 remedial action for the SCP Carlstadt site will be performed by a group of Settling Defendants, consisting of Air Products and Chemicals, Inc., Akzo Nobel Coatings, Inc., Alcatel-Lucent USA Inc., ARKEMA Inc., Ashland Inc., Avantor Performance Materials, Inc., Avery Dennison Corporation, BASF Corporation, Benjamin Moore & Co., Ber Mar Manufacturing Corp., Bristol-Myers Squibb Company, Browning-Ferris Industries of New Jersey, Inc., CBS Corporation, Chemcoat Inc., CNA Holdings LLC, Continental Holdings Inc., Cycle Chem, Inc., Cytec Industries, Inc., Dri-Print Foils, Inc., E. I. du Pont de Nemours and Company, Exxon Mobil Corporation/ExxonMobil Oil Corporation, General Electric Company, GlaxoSmithKline, LLC, Goodrich Corporation, HCR ManorCare, Inc., Hoffmann-La Roche, Inc., Honeywell International Inc., John L. Armitage & Co., Johnson & Johnson, Kirker Enterprises, Inc., L.E. Carpenter & Company, LANXESS Corporation, Mack Trucks, Inc., Merck & Co., Inc., Momentive Specialty Chemicals Inc., Nepera, Inc., New England Laminates Co., Inc., Northrop Grumman Systems Corporation, Occidental Chemical Corporation, Pan Technology, Inc., Permacel, Pfizer Inc, Pharmacia LLC, Revlon Consumer Products Corporation, Rohm and Haas Company, Seagrave Coatings Corp. (NJ), SI Group, Inc., Siegfried (USA), Inc., Simon Wrecking Company, Inc./Simon Resources, Inc./Mid State Trading Co., The Dow Chemical Company, The Warner Lambert Co., LLC, 3M Company, Trane U.S., Inc., Union Carbide Corporation, United Technologies Corporation, and Veolia ES Technical Solutions, L.L.C. The proposed consent decree also requires the defendants to pay $50,000 for reimbursement of EPA past costs at the site.

The publication of this notice opens a period for public comment on the consent decree. Comments should be addressed to the Assistant Attorney General, Environment and Natural Resources Division, and should refer to United States v. Air Products and Chemicals, Inc., et al., D.J. Ref. No. 90-11-2-495/2. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $48.75 (25 cents per page reproduction cost) payable to the United States Treasury. For a paper copy without the appendices and signature pages, the cost is $12.25.

Robert E. Maher, Jr.,
Assistant Section Chief, Environmental Enforcement Section, Environment and Natural Resources Division.

[FR Doc. 2013-27197 Filed 11-13-13; 8:45 am]

BILLING CODE 4410-15-P